DEPARTMENT OF THE INTERIOR

Bureau of Land Management

[CO-930-1430-ET; COC-34653]

Proposed Modification of Public Land Order No. 6761; Opportunity for Public Meeting; Colorado

AGENCY: Bureau of Land Management, Interior.

ACTION: Notice.

SUMMARY: The Bureau of Land Management proposes to modify the withdrawal of the Windy Gap Archaeological Sites to allow for disposal. This modification will have no effect on the restrictions imposed by Public Land Order No. 6761 and the lands containing these sites will not be disposed of until the archaeological values have been mitigated. The lands have been and remain open to mineral leasing.

DATES: Comments and requests for a public meeting must be received by February 23, 2004.

FOR FURTHER INFORMATION CONTACT: Doris E. Chelius, BLM Colorado State Office, 2850 Youngfield Street, Lakewood, Colorado 80215-7076, 303-239-3706.

SUPPLEMENTARY INFORMATION: The Secretary of the Interior has approved a petition allowing the Bureau of Land Management to file an application to modify Public Land Order 6761. This order will affect the following described land:

Sixth Principal Meridian

T.2 N., R. 76 W.,

Sec. 17, lots 3 and 4;

Sec 20, lots 1, 2, and 7.

T. 2 N., R. 77 W.,

Sec. 23, lot 8;

Sec. 24, lot 4;

Sec. 25, lots 1 and 2;

Sec. 26, lot 1.

The areas described aggregate approximately 397.80 acres of public land in Grand County.

For a period of 90 days from the date of publication of this notice, all persons who wish to submit comments, suggestions, or objections in connection with the proposed modification may present their views in writing to the Colorado State Director at the address shown above, Notice is hereby given that an opportunity for a public meeting is afforded in connection with the proposed modification. All interested persons who desire a public meeting for the purposes of being heard on the proposed action must submit a written request to the Colorado State Director within 90 days of publication of this notice. Upon determination by the authorized officer that a public meeting will be held, a notice of time and place will be published in the Federal Register at least 30 days before the scheduled date of the meeting. This application will be processed in accordance with the regulations set forth in 43 CFR 2300.

Dated: November 17, 2003.
Jenny L. Saunders,
Realty Officer.

[FR Doc. 03-29401 Filed 11-24-03; 8:45 am]

BILLING CODE 4310-JB-Pa